DEPARTMENT OF HEALTH AND HUMAN SERVICES

Substance Abuse and Mental Health Services Administration

Agency Information Collection Activities: Submission for Office of Management and Budget (OMB) Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer at (240) 276-0361.

Project: Regulations To Implement SAMHSA's Charitable Choice Statutory Provisions—42 CFR Parts 54 and 54a (OMB No. 0930-0242)—Revision

Section 1955 of the Public Health Service Act (42 U.S.C. 300x-65), as amended by the Children's Health Act of 2000 (Pub. L. 106-310) and Sections 581-584 of the Public Health Service Act (42 U.S.C. 290kk et seq., as added by the Consolidated Appropriations Act (Pub. L. 106-554)), set forth various provisions which aim to ensure that religious organizations are able to compete on an equal footing for federal funds to provide substance use services. These provisions allow religious organizations to offer substance use services to individuals without impairing the religious character of the organizations or the religious freedom of the individuals who receive the services. The provisions apply to the Substance Use Prevention, Treatment, and Recovery Services Block Grant (SUBG), to the Projects for Assistance in Transition from Homelessness (PATH) formula grant program, and to certain SAMHSA discretionary grant programs (programs that pay for substance use treatment and prevention services, not for certain infrastructure and technical assistance activities). Every effort has been made to assure that the reporting, recordkeeping, and disclosure requirements of the proposed regulations allow maximum flexibility in implementation and impose minimum burden.

No changes are being made to the regulations or the information collection provisions. A minor change reflecting current state reporting has been made to the annual burden estimates in 54.8(c)(4) resulting in total burden costs reported decreasing.

Information on how states comply with the requirements of 42 CFR part 54 was approved by OMB as part of the Substance Use Prevention and Treatment Block Grant FY 2019-2021 annual application and reporting requirements approved under OMB control number 0930-0168.

42 CFR citation and purpose | Number of respondents | Responses per respondent | Total responses | Hours per response | Total hours
Part 54—States Receiving SUBG and/or Projects for Assistance in Transition from Homelessness
Reporting:
96.122(f)(5) Annual report of activities the state undertook to comply with 42 CFR Part 54 | 60 | 1 | 60 | 1 | 60
54.8(c)(4) Total number of referrals to alternative service providers reported by program participants to States (respondents)
SUBG | 7 | 7 (avg.) | 47 | 1 | 47
PATH | 10 | 5 | 50 | 1 | 50
54.8(e) Annual report by PATH grantees on activities undertaken to comply with 42 CFR Part 54 | 56 | 1 | 56 | 1 | 56
Disclosure:
54.8(b) Program participant notice to program beneficiaries of rights to referral to an alternative service provider
SUBG | 60 | 1 | 60 | .05 | 3
PATH | 56 | 1 | 56 | .05 | 3
Recordkeeping:
54.6(b) Documentation must be maintained to demonstrate significant burden for program participants under 42 U.S.C. 300x-57 or 42 U.S.C. 290cc-33(a)(2) | 60 | 1 | 60 | 1 | 60
Part 54—Subtotal | 116 |  | 389 |  | 279
Part 54a—States, local governments and religious organizations receiving funding under Title V of the PHS Act for substance use prevention, treatment and recovery services
Reporting:
54a.8(c)(1)(iv) Program participant notification to state or local government of a referral to an alternative provider | 25 | 4 | 100 | .083 | 8
54a(8)(d) Program participant notification to SAMHSA of referrals. (Note: This notification will occur during the course of the regular reports that may be required under the terms of the funding award). | 20 | 2 | 40 | .25 | 10
Disclosure:
54a.8(b) Program participant notice to program beneficiaries of rights to referral to an alternative service provider | 1,460 | 1 | 1,460 | 1 | 1,460
Part 54a—Subtotal | 1,505 |  | 1,600 |  | 1,478
Total | 1,621 |  | 1,989 | 1 | 1,757

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2025-09493 Filed 5-27-25; 8:45 am]

BILLING CODE 4162-20-P